ENVIRONMENTAL PROTECTION AGENCY

[EPA-HQ-OPP-2002-0281; FRL-7772-1]

Pesticides; NAFTA Guidance Document on Requirements for Tolerances on Imported Commodities in the U.S. and Canada; Notice of Availability

AGENCY: Environmental Protection Agency (EPA).

ACTION: Notice.

SUMMARY: This notice announces the availability of the NAFTA Guidance Document on Requirements for Tolerances on Imported Commodities in the United States and Canada. It follows up on an April 16, 2003 notice, which made a proposed version of the document available for a 60-day public comment period. The document provides detailed guidance on data requirements that meet NAFTA standards for the establishment of pesticide import tolerances or maximum residue levels in Canada and the United States, and has been developed consistently with the goals of the North American Free Trade Agreement. This guidance document does not change the U.S. data requirements for obtaining a U.S. import tolerance. This common approach to the establishment of import tolerances is expected to promote trade between North America and the rest of the world and maintain North American high standards for food safety.

FOR FURTHER INFORMATION CONTACT: Robert McNally, Special Review and Reregistration Division, (7508C), Office of Pesticide Programs, Environmental Protection Agency, 1200 Pennsylvania Ave., NW., Washington, DC 20460-0001; telephone number: (703) 308-8085; fax number: (703) 308-8041; e-mail address: mcnally.robert@epa.gov.

SUPPLEMENTARY INFORMATION:

I. General Information

A. Does this Action Apply to Me?

You may be potentially affected by this action if you sell, manufacture, or use pesticides for agricultural applications, produce food, distribute or sell food, or implement governmental pesticide regulations. Potentially affected entities may include, but are not limited to:

• Food manufacturers (NAICS 311), e.g., Commercial processors.

• Pesticide Manufacturers (NAICS 32532), e.g., pesticide registrants and pesticide producers.

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies of this Document and Other Related Information?

1. Docket. EPA has established a docket for this action under Docket identification number (ID) [EPA-HQ-OPP-2002-0281; FRL-7772-1]. Publicly available docket materials are available either electronically at http://www.regulations.gov or in hard copy at the Public Information and Records Integrity Branch (PIRIB), Rm. 119, Crystal Mall #2, 1801 S. Bell St., Arlington, VA. This Docket Facility is open from 8:30 a.m. to 4 p.m., Monday through Friday, excluding legal holidays. The Docket telephone number is (703) 305-5805.

2. Electronic access. You may access this Federal Register document electronically through the EPA Internet under the “Federal Register” listings at http://www.epa.gov/fedrgstr/. The guidance document itself is available on the NAFTA Technical Working Group in the Pesticides website at http://www.epa.gov/oppfead1/international/naftatwg/.

II. Background

A. What Action is the Agency Taking?

This notice announces the availability of the NAFTA Guidance Document on Data Requirements for Tolerances on Imported Commodities. It has been developed consistently with the goals of the North American Free Trade Agreement (NAFTA). A common NAFTA approach to import tolerances will promote trade between North American and the rest of the world.

B. What is the Agency's Authority for Taking this Action?

On June 1, 2000, EPA issued in the Federal Register U.S. guidance on import tolerances. The NAFTA Guidance Document on Data Requirements for Tolerances on Imported Commodities in the United States and Canada is consistent with the earlier guidance.

EPA regulates pesticides under two major statues: The Federal Insecticide, Fungicide, and Rodenticide Act (FIFRA) and the Federal Food, Drug, and Cosmetic Act (FFDCA). FIFRA requires that pesticides be registered (licensed) by EPA before they may be sold or distributed for use in the United States. Section 408 of the FFDCA authorizes EPA to establish, modify or maintain tolerances or tolerance exemptions for pesticide residues in or on food. Any food with pesticide residues not covered by a tolerance or tolerance exemption (or with residues in excess of the tolerance) may be subject to regulatory action by the U.S. government (including seizure). Pesticide tolerances and exemptions are enforced by individual states and the U.S. Food and Drug Administration for most foods, and by the U.S. Department of Agriculture for meat, poultry, and some egg products.

EPA has an obligation under section 408 of the FFDCA to establish tolerances for pesticide chemicals at levels that are “safe.” EPA also has an obligation to ensure that the tolerances continue to be “safe” over time, since new information may alter EPA's earlier safety finding under the FFDCA.

List of Subjects

Environmental protection, Pesticides and pests.

Dated: March 29, 2006.
James Jones,
Director, Office of Pesticide Programs.

[FR Doc. E6-4948 Filed 4-4-06; 8:45 am]

BILLING CODE 6560-50-S